DEPARTMENT OF ENERGY

National Coal Council

AGENCY: Department of Energy.

ACTION: Notice of open meeting.

SUMMARY: This notice announces a meeting of the National Coal Council (NCC). The Federal Advisory Committee Act (Pub. L. 92-463, 86 Stat. 770) requires that public notice of these meetings be announced in the Federal Register.

DATES: Thursday, June 7, 2012, 10:00 a.m. to 3:00 p.m.

ADDRESSES: Crowne Plaza Chicago O'Hare, 5440 North River Road, Rosemont, Illinois 60018.

FOR FURTHER INFORMATION CONTACT: Dr. Robert J. Wright, U.S. Department of Energy; 4G-036/Forrestal Building, 1000 Independence Avenue SW., Washington, DC 20585-1290; Telephone: 202-586-0429.

SUPPLEMENTARY INFORMATION:

Purpose of Meeting: The Coal Policy Committee of the National Coal Council will review the draft of a report requested by Secretary of Energy Steven Chu in a letter dated October 28, 2011, to the Council.

Tentative Agenda

▪ Review and action on the report.

▪ Adjourn.

Public Participation: The meeting is open to the public. If you would like to file a written statement with the Committee, you may do so either before or after the meeting. If you would like to make oral statements regarding any potential items on the agenda, you should contact Dr. Robert J. Wright, 202-586-0429 or Robert.wright@hq.doe.gov (email). You must make your request for an oral statement at least 5 business days before the meeting. Reasonable provision will be made to include the scheduled oral statements on the agenda. The Chairperson of the Committee will conduct the meeting to facilitate the orderly conduct of business. Public comment will follow the 10-minute rule.

Minutes: The NCC will prepare meeting minutes within 45 days of the meeting. The minutes will be posted on the NCC Web site at http://www.nationalcoalcouncil.org/.

Dated: Issued at Washington, DC, on May 11, 2012.
LaTanya R. Butler,
Acting Deputy Committee Management Officer.

[FR Doc. 2012-11977 Filed 5-16-12; 8:45 am]

BILLING CODE 6450-01-P